ENVIRONMENTAL PROTECTION AGENCY

[FRL-8692-3]

Science Advisory Board Staff Office; Notification of Upcoming Meeting of the Science Advisory Board Particulate Matter Research Centers Program Advisory Panel

AGENCY: Environmental Protection Agency (EPA).

ACTION: Notice.

SUMMARY: The Environmental Protection Agency (EPA or Agency) Science Advisory Board (SAB) Staff Office announces a public meeting of the SAB Particulate Matter (PM) Research Centers Program Advisory Panel to comment on the Agency's current PM research centers program and provide advice to EPA concerning future structures and strategic direction for the program.

DATES: The meeting dates are Wednesday, October 1, 2008, from 8:30 a.m. to 5:30 p.m. through Thursday, October 2, 2008, from 8:30 a.m. to 3 p.m. (Eastern Time).

ADDRESSES: The meeting will be held in the SAB Conference Center located at: 1025 F Street, NW., Room 3705, Washington, DC 20004.

FOR FURTHER INFORMATION CONTACT: Members of the public who wish to obtain further information about this meeting must contact Mr. Fred Butterfield, Designated Federal Officer (DFO). Mr. Butterfield may be contacted at the EPA Science Advisory Board (1400F), U.S. Environmental Protection Agency, 1200 Pennsylvania Avenue, NW., Washington, DC 20460; or via telephone/voice mail: 202-343-9994; fax 202-233-0643; or e-mail at butterfield.fred@epa.gov. General information about the EPA SAB, as well as any updates concerning the meeting announced in this notice, may be found on the SAB Web site at http://www.epa.gov/sab.

SUPPLEMENTARY INFORMATION: The SAB was established by 42 U.S.C. 4365 to provide independent scientific and technical advice to the Administrator on the technical basis for Agency positions and regulations. The SAB is a Federal Advisory Committee chartered under the Federal Advisory Committee Act (FACA), as amended, 5 U.S.C., App. This SAB Panel will comply with the provisions of FACA and all appropriate SAB Staff Office procedural policies.

Background: In 1998, the Congress directed EPA to establish as many as five university-based PM research centers as part of the Agency's expanded Office of Research and Development (ORD) PM research program. The first PM Research Centers were funded from 1999 to 2005 with a total program budget of $8 million annually (see: http://es.epa.gov/ncer/science/pm/centers.html). In the original Request for Applications (RFA), prospective centers were asked to propose an integrated research program on the health effects of PM, including exposure, dosimetry, toxicology and epidemiology. ORD's PM Research Centers program was initially shaped by recommendations from the National Research Council.

In 2002, ORD requested that the Science Advisory Board conduct an interim review of EPA's PM Research Centers program, the report from which is found at http://yosemite.epa.gov/sab/sabproduct.nsf/6374FD2B32EFE730852570CA007415FE/$File/ec02008.pdf. This review was instrumental in providing additional guidance to ORD for the second phase of the program (2005-2010). In 2004, ORD held a second competition for the PM Research Centers program. This RFA asked respondents to address the central theme of “linking health effects to PM sources and components,” and to focus on the research priorities of susceptibility, biological mechanisms, exposure-response relationships, and source linkages. From this RFA, five current centers are funded for 2005-2010 with the total program budget at $40 million (see: http://cfpub.epa.gov/ncer_abstracts/index.cfm/fuseaction/outlinks.centers/centerGroup/19).

EPA's National Center for Environmental Research (NCER), within ORD, requested that the SAB Staff Office form an expert panel to comment on the Agency's current PM Research Centers program and to advise EPA concerning the possible structures and strategic direction for the program as ORD considers funding a third round of air pollution research centers into the future, i.e., from 2010 to 2015. Therefore, in response to this request from NCER, the SAB Staff Office published a notice in the Federal Register (73 FR 5838) on January 31, 2008, which announced the formation of an SAB ad hoc panel for this advisory activity and requested public nominations of qualified experts to serve on this panel.

The SAB Staff Office has established the SAB PM Research Centers Program Advisory Panel. This ad hoc Panel is comprised of nationally- and internationally-recognized, non-EPA scientists with extensive research program management expertise and experience related to airborne pollution (including PM) and the application of research results in reducing air pollution in protection of human health and the environment. Furthermore, these experts have had direct research experience related to airborne particulate matter. The roster and biosketches of this SAB Panel are posted on the SAB Web site at http://www.epa.gov/sab.

Technical Contacts: Any programmatic or technical questions concerning EPA's Airborne Particulate Matter Research Centers Program can be directed to Ms. Stacey Katz, NCER, at phone: 202-343-9855, or e-mail: katz.stacey@epa.gov; Ms. Gail Robarge, NCER, at phone: 202-343-9857, or e-mail: robarge.gail@epa.gov; or to Mr. Dan Costa, ORD's National Program Director for Air Research, at phone: 919-541-2532, or e-mail: costa.dan@epa.gov.

Availability of Meeting Materials: All Agency documents to be discussed during this advisory activity will be available on EPA's “Airborne Particulate Matter Research Centers—New (2005)” Web page at: http://cfpub.epa.gov/ncer_abstracts/index.cfm/fuseaction/outlinks.centers/centerGroup/19.

The SAB meeting agenda and any other materials for this upcoming public advisory meeting will be available on the EPA Web site at http://www.epa.gov/casac in advance of the meeting.

Procedures for Providing Public Input: Interested members of the public may submit relevant written or oral information for the SAB Panel to consider on the topics included in this advisory activity and/or group conducting the activity. Oral Statements: In general, individuals or groups requesting an oral presentation at a public meeting will be limited to five minutes per speaker, with no more than a total of one hour for all speakers. Interested parties should contact Mr. Butterfield, DFO, in writing (preferably via e-mail) at the contact information noted above, by September 24, 2008, to be placed on a list of public speakers for the meeting. Written Statements: Written statements should be received in the SAB Staff Office by September 24, 2008, so that the information may be made available to the SAB Panel members for their consideration. Written statements should be supplied to the DFO electronically via e-mail (acceptable file formats: Adobe PDF, MS Word, WordPerfect, MS PowerPoint, or Rich Text files in IBM-PC/Windows 98/2000/XP format).

Accessibility: For information on access or services for individuals with disabilities, please contact Mr. Butterfield at the phone number or e-mail address noted above, preferably at least ten days prior to the meeting to give EPA as much time as possible to process your request.

Dated: July 8, 2008.
Anthony F. Maciorowski,
Deputy Director, EPA Science Advisory Board Staff Office.

[FR Doc. E8-16118 Filed 7-14-08; 8:45 am]

BILLING CODE 6560-50-P